DEPARTMENT OF HOMELAND SECURITY

[Docket No. DHS-2012-0064]

Homeland Security Advisory Council

AGENCY: The Office of Policy, DHS.

ACTION: Notice of open teleconference federal advisory committee meeting.

SUMMARY: The Homeland Security Advisory Council (HSAC) will meet via teleconference for the purpose of reviewing and deliberating on recommendations by the HSAC's Cyber Skills Task Force.

DATES: The HSAC conference call will take place from 4 p.m. to 5 p.m. EDT on Monday, October 1, 2012. Please be advised that the meeting is scheduled for one hour and may end early if all business is completed before 5 p.m. EDT.

ADDRESSES: The HSAC meeting will be held via teleconference. Members of the public interested in participating in this teleconference meeting may do so by following the process outlined below (see “Public Participation”).

Written comments must be submitted and received by September, 30, 2012. Comments must be identified by Docket No. DHS-2012-0064 and may be submitted by one of the following methods:

• Federal eRulemaking Portal: http://www.regulations.gov. Follow the instructions for submitting comments.

• Email: HSAC@dhs.gov. Include docket number in the subject line of the message.

• Fax: (202) 282-9207.

• Mail: Homeland Security Advisory Council, Department of Homeland Security, Mailstop 0445, 245 Murray Lane SW., Washington, DC 20528.

Instructions: All submissions received must include the words “Department of Homeland Security” and DHS-2012-0064, the docket number for this action. Comments received will be posted without alteration at http://www.regulations.gov, including any personal information provided.

Docket: For access to the docket to read comments received by the DHS Homeland Security Advisory Council, go to http://www.regulations.gov.

FOR FURTHER INFORMATION CONTACT: Mike Miron at hsac@dhs.gov or 202-447-3135.

SUPPLEMENTARY INFORMATION: Notice of this meeting is given under the Federal Advisory Committee Act, 5 U.S.C. App. The HSAC provides organizationally independent, strategic, timely, specific, and actionable advice to the Secretary and senior leadership on matters related to homeland security. The HSAC will meet to review and deliberate on the Cyber Skills Task Force report of findings and recommendations.

Public Participation: Members of the public will be in listen-only mode. The public may register to participate in this HSAC teleconference via the following procedures. Each individual must provide his or her full legal name and email address no later than 5 p.m. EDT on September 30, 2012, to a staff member of the HSAC via email at HSAC@dhs.gov or via phone at (202) 447-3135. HSAC conference call details and the Cyber Skills Task Force report will be provided to interested members of the public at the time they register.

The Federal Advisory Committee Act requires that notices of meetings of advisory committees be announced in the Federal Register 15 days prior to the meeting date. This notice of the teleconference meeting of the HSAC is published in the Federal Register with less than 15 days' due to the complexity of the issue, the task force was not able to complete its report within this aggressive time line in time for deliver to the HSAC at its September 24-25 meeting. Waiting for the full 15 day notice period to conduct the teleconference will delay the discussion of the report to a period of time that will prevent the Secretary from meeting with the HSAC to review the report due to her travel schedule. In order to not delay receipt of the recommendations from the HSAC this teleconference is being announced with less than 15 days' notice. Since this is a meeting by teleconference, members of the public do to not have to travel to attend, and the task force report is available to the public prior to the meeting for review and comment by members of the public in accordance with procedures provided above.

Information on Services for Individuals with Disabilities: For information on facilities or services for individuals with disabilities, or to request special assistance during the teleconference, contact Mike Miron (202) 447-3135.

Becca Sharp,
Executive Director, Homeland Security Advisory Council, DHS.

[FR Doc. 2012-23870 Filed 9-27-12; 8:45 am]

BILLING CODE 9110-9M-P